DEPARTMENT OF HEALTH AND HUMAN SERVICES

Administration for Children and Families

[CFDA Number 93.600]

Announcement of the Award of Four Single-Source Program Expansion Supplement Grants To Support Activities Associated With the Tribal Early Learning Initiative

AGENCY: Office of Head Start, Administration for Children and Families, Health and Human Services.

ACTION: Notice of award of four single-source program expansion supplement grants to Head Start/Early Head Start American Indian and Alaska Native (AIAN) grantees to support their activities as participants in the Tribal Early Learning Initiative.

SUMMARY: The Administration for Children and Families, Office of Head Start, announces the award of single-source program expansion supplement grants to four grantees in the Head Start/Early Head Start American Indian and Alaska Native (AIAN) grantees to support their participation in the Tribal Early Learning Initiative. Each of the following grantees is receiving a supplement in the amount of $15,750.

Grantee | Location
Choctaw Nation of Oklahoma | Durant, OK.
Pueblo of San Felipe | San Felipe, NM.
Confederated Tribes of Salish and Kootenai | Pablo, MT.
White Earth Band of Chippewa Indians | White Earth, MN.

The program expansion supplement awards will support expanded services to identify and analyze systems that will improve effectiveness and efficiencies across early childhood programs. The grantees will share action plans to improve outcomes and developing peer learning relationships.

DATES: September 29, 2012-September 30, 2013.

FOR FURTHER INFORMATION CONTACT: Yvette Sanchez Fuentes, Director, Office of Head Start, 1250 Maryland Ave SW., Washington, DC 20024. Telephone: 202-205-8573; Email: yvette.sanchezfuentes@acf.hhs.gov.

SUPPLEMENTARY INFORMATION: The program expansion supplemental grants will support the effective identification and analysis of actual and potential systems issues faced by tribes receiving all three ACF early learning grants: Head Start/Early Head Start, Tribal Child Care, and Tribal Maternal, Infant, and Early Childhood Home Visiting (MIECHV). The program expansion supplements will support coordination and collaboration activities such as identifying obstacles that could block efforts to build and maintain partnerships, piloting more effective coordination of Tribal Early Learning Programs, and development of alternative interventions and strategies in line with tribal community values, traditions, and priorities. The Tribal Early Learning Initiative is expected to accomplish the following:

• Identify and analyze systems issues, including obstacles that could block efforts to build and maintain partnerships in tribal communities, to fully and effectively coordinate Tribal Head Start/Early Head Start, Tribal Child Care, and Tribal MIECHV programs (Tribal Early Learning Programs), and to develop a menu of alternative interventions and strategies in line with tribal community values, traditions, and priorities.

• Develop tribally-driven goals and concrete objectives in each local tribal community for building effective and efficient early childhood systems and improved outcomes for young children and families including strategies to support parent, family, and community engagement.

• Develop and carry out concrete community plans for supporting and strengthening cooperation, coordination, and resource sharing and leveraging among programs that support young children and families in the tribal community

• Share plans of action, barriers and challenges, opportunities and solutions, and the results of action plans with other tribal communities in an effort to further develop peer learning relationships

The Office of Child Care will separately announce the award of four single-source program expansion supplement grants of up to $15,750 to the same Tribal grantees to support Tribal MIECHV-related activities as part of the Tribal Early Learning Initiative.

Statutory Authority: Improving Head Start for School Readiness Act of 2007 (Pub.L. 110-134). Sections 642 (e)(3) and 648 of the Head Start Act, as amended by the Improving Head Start for School Readiness Act of 2007.

Yvette Sanchez Fuentes,
Director, Office of Head Start.

[FR Doc. 2012-26302 Filed 10-24-12; 8:45 am]

BILLING CODE 4184-40-P